DEPARTMENT OF AGRICULTURE

Forest Service

Public Meeting, Cherokee National Forest Resource Advisory Committee

AGENCY: Forest Service, USDA.

ACTION: Notice of public meeting, Cherokee National Forest Resource Advisory Committee.

SUMMARY: In accordance with the Secure Rural Schools and Community Self Determination Act of 2000 (Pub. L. 106-393), [as reauthorized as part of Public Law 110-343] and the Federal Advisory Committee Act of 1972 (FACA), the U.S. Department of Agriculture, Forest Service, Cherokee National Forest Resource Advisory Committee will meet as indicated below.

DATES: The Cherokee National Forest Resource Advisory Committee meeting will be conducted on Thursday, March 10, 2011 from 12:30-4:30 p.m.

ADDRESSES: McGhee Tyson Airport, 2055 Alcoa Highway, Alcoa, TN 37701. Meeting visitors should park in the main airport parking garage and bring their parking ticket to the meeting for validation. Take the centrally located elevator in the passenger terminal to the 3rd floor and see the receptionist for directions to the meeting room.

FOR FURTHER INFORMATION CONTACT: Terry Bowerman, Designated Federal Official, Cherokee National Forest, 4900 Asheville Hwy SR 70, Greeneville, TN 37743: Telephone: 423-638-4109, e-mail tbowerman@fs.fed.us.

SUPPLEMENTARY INFORMATION: The Cherokee National Forest Resource Advisory Committee (RAC) proposes projects and funding to the Secretary of Agriculture under Section 203 of the Secure Rural Schools and Community Self Determination Act of 2000, (as reauthorized as part of Pub. L. 110-343). The Cherokee National Forest RAC consists of 15 people selected to serve on the committee by Secretary of Agriculture Tom Vilsack. Two Tennessee counties, Cocke and Monroe, are setting aside a percentage of their Secure Rural Schools Act payment under Title II of the Act to be used for projects on federal land. The RAC will ultimately review and recommend projects to be funded from this money. Projects approved must benefit National Forests lands. Projects can maintain infrastructure, improve the health of watersheds and ecosystems, protect communities, and strengthen local economies. The agenda for the March 10th meeting of the Cherokee National Forest RAC will focus on review and consideration of proposed projects. RAC meetings are open to the public.

H. Thomas Speaks, Jr.,
Forest Supervisor, Cherokee National Forest.

[FR Doc. 2011-3066 Filed 2-11-11; 8:45 am]

BILLING CODE 3410-11-M